NATIONAL SCIENCE FOUNDATION

Advisory Committee for Education and Human Resources; Notice of Meeting

In accordance with the Federal Advisory Committee Act (Pub. L. 92-463, as amended), the National Science Foundation (NSF) announces the following meeting:

Name and Committee Code: Advisory Committee for Education and Human Resources (#1119)—Report of the Building Capacity at Hispanic Serving Institutions (Subcommittee of the Advisory Committee).

Date and Time: September 29, 2017; 1:00 p.m.-2:00 p.m. (EST).

Place: National Science Foundation, 2415 Eisenhower Avenue, Alexandria, VA 22314.

Operated assisted teleconference is available for this meeting. Call 888-677-2612 with password EHRAC and you will be connected to the audio portion of the meeting.

Meeting materials and minutes will also be available on the EHR Advisory Committee Web site at http://www.nsf.gov/ehr/advisory.jsp.

Type of Meeting: Open, Teleconference.

Contact Person: Susan Brennan, National Science Foundation, 2415 Eisenhower Avenue, Suite C11000, Alexandria, VA 22314; (703) 292-5096 (sbrennan@nsf.gov).

Purpose of Meeting: To provide advice with respect to the Foundation's science, technology, engineering, and mathematics (STEM) education and human resources programming.

Agenda

Friday, September 29, 2017; 1:00 p.m.-2:00 p.m. (EST)

Welcoming Remarks

Francisco Rodriguez, EHR Advisory Committee Chair

Jim Lewis, Acting Assistant Director for Education and Human Resources

Introduction of the Report

Francisco Rodriguez, EHR Advisory Committee Member and Chair of the Subcommittee

Advisory Committee Deliberation

Francisco Rodriguez, EHR Advisory Committee Chair

Advisory Committee Report Disposition

Francisco Rodriguez, EHR Advisory Committee Chair

Concluding Comments

Jim Lewis, Acting Assistant Director for Education and Human Resources

Francisco Rodriguez, EHR Advisory Committee Chair

Dated: September 5, 2017.
Crystal Robinson,
Committee Management Officer.

[FR Doc. 2017-19077 Filed 9-7-17; 8:45 am]

BILLING CODE 7555-01-P